DEPARTMENT OF TRANSPORTATION

Federal Highway Administration

Environmental Impact Statement Withdrawal: Wexford, Grand Traverse, and Kalkaska Counties: MI

AGENCY: Federal Highway Administration (FHWA), DOT.

ACTION: Notice of intent withdrawal.

SUMMARY: On April 14, 1995, the Federal Highway Administration issued a Notice of Intent to prepare an Environmental Impact Statement (EIS) for the proposed construction of a new US-131 freeway from north of Manton to north of Kalkaska in Kalkaska County. The proposed project involved study of corridors for a new freeway to replace the existing roadway. The Federal Highway Administration is issuing this Notice to withdraw it's original Notice Of Intent dated April 14, 1995.

SUPPLEMENTARY INFORMATION: Preliminary scoping studies were undertaken which resulted in several alternative alignments. Public meetings were held to garner information and help shape the alternatives. An economic study was prepared. This study concluded that while the region could benefit from the proposed new highway, the state as a whole would not. It was, therefore, determined that the proposed highway project would not be an efficient statewide economic expenditure. This study in conjunction with the Michigan Department of Transportation's increased emphasis on system preservation rather than expansion had caused a change in priorities. As a result, the Federal Highway Administration has determined that an environmental impact statement is no longer needed. In lieu of an EIS, the Federal Highway Administration and the Michigan Department of Transportation are undertaking preservation projects coupled with spot improvements to existing roadways in the area. Should it be determined during this process that an EIS is needed for a proposed project, one will be prepared following a new Notice Of Intent.

Issued on: February 1, 2000.
Norman R. Stoner,
Asst. Division Administrator Lansing, Michigan.

[FR Doc. 00-3970 Filed 2-17-00; 8:45 am]

BILLING CODE 4910-22-M